NATIONAL AERONAUTICS AND SPACE ADMINISTRATION

[Notice: (23-109)]

NASA Planetary Science Advisory Committee; Meeting

AGENCY: National Aeronautics and Space Administration.

ACTION: Notice of meeting.

SUMMARY: In accordance with the Federal Advisory Committee Act, the National Aeronautics and Space Administration (NASA) announces a meeting of the Planetary Science Advisory Committee. The meeting will be held for the purpose of soliciting, from the scientific community and other persons, scientific and technical information relevant to program planning.

DATES: Monday, November 13, 2023, 10:00 a.m. to 6:00 p.m.; Tuesday, November 14, 2023, 10:00 a.m. to 6:00 p.m. All times are Eastern Time.

FOR FURTHER INFORMATION CONTACT: Ms. KarShelia Kinard, Science Mission Directorate, NASA Headquarters, Washington, DC 20546, (202) 358-2355 or karshelia.kinard@nasa.gov.

SUPPLEMENTARY INFORMATION: The meeting is virtual and will be available telephonically and via WebEx.

For Monday, November 13, 2023, the WebEx information for attendees is: https://nasaenterprise.webex.com/nasaenterprise/j.php?MTID=m8a802c5d9edc7d6ad33e1d7619898e8e. The Webinar number is: 2764 696 3398 and the Webinar password is: PACNov-231 (72266803 from phones and video systems). To join by telephone call, use US Toll: +1-415-527-5035 (Access Code: 276 469 63398).

For Tuesday, November 14, 2023, the WebEx information for attendees is: https://nasaenterprise.webex.com/nasaenterprise/j.php?MTID=m92f001d6fcd685eed0c4af280442d0f3. The Webinar number is: 2760 033 6624 and the Webinar password is: PACNov-232 (72266803 from phones and video systems). To join by telephone call, use US Toll: +1-415-527-5035 (Access Code: 2760 033 6624).

Accessibility: Captioning will be provided for this meeting. We are committed to providing equal access to this meeting for all participants. If you need alternative formats or other reasonable accommodations, please contact Ms. KarShelia Kinard, Science Mission Directorate, NASA Headquarters, Washington, DC 20546, (202) 358-2355 or karshelia.kinard@nasa.gov.

The agenda for the meeting includes the following topics:

—Planetary Science Division Update

—Planetary Science Division Research and Analysis Program Update

—Mars Sample Return Update

—Astrobiology Update

It is imperative that the meeting be held on these dates to accommodate the scheduling priorities of the key participants.

Patricia Rausch,
Advisory Committee Management Officer, National Aeronautics and Space Administration.

[FR Doc. 2023-23789 Filed 10-26-23; 8:45 am]

BILLING CODE 7510-13-P